COMMODITY FUTURES TRADING COMMISSION

Sunshine Act Meeting

Time and Date: 11 a.m., Friday, April 30, 2004.

Place: 1155 21st St., NW., Washington, DC, Room 1012.

Status: Closed.

Matters to be Considered: Surveillance matters.

FOR FURTHER INFORMATION CONTACT: Jean A. Webb, (202) 418-5100.

Jean A. Webb,
Secretary of the Commission.

[FR Doc. 04-6128 Filed 3-15-04; 1:52 pm]

BILLING CODE 6351-01-M